DEPARTMENT OF HEALTH AND HUMAN SERVICES

National Institutes of Health

Proposed Collection; Comment Request; Career Survey of Science-Oriented Scholars

SUMMARY: In compliance with the requirement of Section 3506(c)(2)(A) of the Paperwork Reduction Act of 1995, for opportunity for public comment on proposed data collection projects, the Office of Loan Repayment and Scholarship (OLRS), the National Institutes of Health (NIH) will publish periodic summaries of proposed projects to be submitted to the Office of Management and Budget (OMB) for review and approval.

Proposed Collection: (1) Title: Career Survey Science-Oriented Scholars (CSSOS). (2) Focus group of current and former participants in the Undergraduate Scholarship Program (UGSP) at NIH. This survey and focus group are part of a comprehensive evaluation of the National Institutes of Health (NIH) Undergraduate Scholarship Program (UGSP), the purpose of which is to evaluate the success of the UGSP in achieving its intermediate goal of keeping scholars from disadvantage backgrounds on track to eventually become tenured research scientists at the NIH. The CSSOS will collect information on undergraduate, graduate, and post-graduate education and training; employment history; experiences with the NIH; career status and goals; and demographic data. The protocol for the focus groups will address the program application process; experiences during the school year, particularly relations with college mentors; experience during the summer internship; experiences during years spent in payback; perceptions of program effects; career plans; and potential program improvements. Such information can be used to gauge whether the program is meeting the expectations of program managers and how the program could be improved in the future. It will be used to address the outcome and impact study questions related to short and long term retention, both at NIH and in research generally.

In addition to informing OLRS about the effectiveness of the UGSP program, the results of the evaluation will become the basis for recommendations on how the program could be modified to improve outcomes. Indeed, some of the findings may be useful to the Office of the Director in terms of human resources policy in particular and NIH policy generally. Also, the information collection will help our nation's leaders in setting policies to ensure a solid infrastructure for biomedical research. Encouraging the nation;s brightest minds to pursue careers in biomedical research, both in public service such as NIH and in private laboratories, is critical to this effort. Frequency of Response: One time data collection. Affected Public: Individuals. Type of Respondents: Current and former NIH UGSP finalist applicants and scholars. The annualized cost to respondents is estimated at $6,687. There are no capital costs, operating costs and/or maintenance costs to report.

Estimates of Annualized Burden
Type of respondent | Approximate number of completed responses | Response per respondent | Hours per response | Total burden hours | Wage rate (per hour) | Total hour cost
College Students | 30 | 1 | .50 | 15.0 | $20.00 | $300
College Graduates | 120 | 1 | .75 | 90.0 | 44.82 | 4,034
Focus Group Participants | 35 | 1 | 1.5 | 52.5 | 44.82 | 2,353
Total | 185 |  |  | 157.5 |  | 6,687

Requests for Comments: Written Comments and/or suggestions from the public and affected agencies are invited on one or more of the following points: (1) Whether the proposed collection of information is necessary for the proper performance of the function of the agency, including whether the information will have practical utility; (2) The accuracy of the agency's estiamte of the burden of the proposed collection of information, including the validity of the methodology and assumptions used; (3) Ways to enhance the quality, utility, and clarity of the information to be collected; and (4) Ways to

FOR FURTHER INFORMATION CONTACT: To request more information on the proposed project or to obtain a copy of the data collection plans and instruments, contact Dr. Alfred C. Johnson, Director, Undergraduate Scholarship Program, NIH, 2 Center Drive, Room 2E30 Bethesda, MD 20892-0230 or call toll-free 1-800-528-7689 or call non-toll free number (301) 480-7430 or E-mail your request including your address to: ACJohnson@nih.gov

Comments Due Date: Comments regarding this information collection are best assured of having their full effect if received within 60-days of the date of this publication.

Dated: February 9, 2004.
Alfred C. Johnson,
Director, Undergraduate Scholarship Program National Institutes of Health.

[FR Doc. 04-3162 Filed 2-12-04; 8:45 am]

BILLING CODE 4140-01-M